FEDERAL COMMUNICATIONS COMMISSION

47 CFR Part 73

[MB Docket Nos. 07-294; 06-121; 02-277; 04-228, MM Docket Nos. 01-235; 01-317; 00-244; DA 08-1359]

In the Matter of Promoting Diversification of Ownership in the Broadcasting Services; Order Granting Request for Extension of Time

AGENCY: Federal Communications Commission.

ACTION: Proposed rule; extension of comment period.

SUMMARY: In this document, the Media Bureau extends the comment and reply comment period in this proceeding. The Commission seeks comment on various proposals to increase participation in the broadcasting industry by new entrants and small businesses, especially minority- and women-owned businesses, with the goal of promoting innovation, diversity of ownership and viewpoints, spectrum efficiency, and competition in media markets.

DATES: Comments are due July 30, 2008 and reply comments are due August 29, 2008.

ADDRESSES: You may submit comments, identified by MB Docket No. 07-294; FCC 07-217, by any of the following methods:

• Federal eRulemaking Portal: http://www.regulations.gov. Follow the instructions for submitting comments.

• Federal Communications Commission's Web Site: http://www.fcc.gov/cgb/ecfs/. Follow the instructions for submitting comments.

• Mail: 445 12th Street, SW., Washington, DC 20554, with a copy to the Commission's duplicating contractor, Best Copy and Printing, Inc., Portals II, 445 12th Street, SW., Room CY-B402, Washington, DC 20554.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of In the Matter of Promoting Diversification of Ownership in the Broadcasting Services, 73 FR 28,400 (May 16, 2008).

FOR FURTHER INFORMATION CONTACT: Julie Salovaara, 202-418-0783. Press inquiries should be directed to Clyde Ensslin, (202) 418-0506.

SUPPLEMENTARY INFORMATION: This is a summary of the Commission's Order in DA 08-1359, adopted and released June 16, 2008.

Synopsis of the Order

1. On March 5, 2008, the Commission released a Report and Order and Third Further Notice of Proposed Rule Making (“Order and Third Further Notice”) establishing new rules and seeking comment on other rule proposals to increase participation in the broadcasting industry by new entrants and small businesses, including minority- and women-owned businesses. The current deadlines to file comments and reply comments in this proceeding are June 30, 2008, and July 14, 2008, respectively.

2. In the Order and Third Further Notice, the Commission seeks comment on various proposals to increase participation in the broadcasting industry by new entrants and small businesses, especially minority- and women-owned businesses, with the goal of promoting innovation, diversity of ownership and viewpoints, spectrum efficiency, and competition in media markets.

3. On June 5, 2008, the Diversity and Competition Supporters (“DCS”) filed a motion requesting that the deadline to file comments be extended to July 30, 2008 and that the deadline to file reply comments be extended to August 29, 2008. DCS is a coalition of 29 organizations. DCS identifies 18 entities, representing a broad range of interests, that support its extension request. These 18 entities are: Belo Corp.; Benton Foundation; Common Cause; Community Broadcasters Association; Council Tree Communications, Inc.; Destiny Communications LLC; Dover Capital Partners, LLC; First Broadcasting Investment Partners, LLC; Gannett Co., Inc.; Granite Broadcasting Corporation; Independent Spanish Broadcasters Association; Media Alliance; Mullaney Engineering; National Association of Broadcasters; National Organization for Women; News Corporation; Spanish Broadcasting System, Inc.; and ZGS Communications.

4. Citing the broad range of the proposals at issue in the proceeding, DCS argues that an extension is warranted to allow DCS to work with various stakeholders to explain the proposals, hear their concerns, and seek their support, and that this extension of time would facilitate the development of a full record.

5. As set forth in Section 1.46(a) of the Commission's Rules, 47 CFR 1.46, the Commission's policy is that extensions of time for filing comments in rulemaking proceedings shall not be routinely granted. In this case, however, given the breadth and importance of the issues in this proceeding, the Commission grants an extension of time to facilitate the development of a full record. The new deadline for comments is July 30, 2008, and the new deadline for reply comments is August 29, 2008. This action is taken pursuant to authority found in Sections 4(i), 4(j), and 303(r) of the Communications Act of 1934, as amended, 47 U.S.C. 154(i), and 303(r) and Sections 0.61, 0.283, and 1.46 of the Commission's rules, 47 CFR 0.61, 0.283, and 1.46.

List of Subjects in 47 CFR Part 73

Radio, Television.

Federal Communications Commission.
Monica Shah Desai,
Chief, Media Bureau.

[FR Doc. E8-14785 Filed 6-27-08; 8:45 am]

BILLING CODE 6712-01-P